DEPARTMENT OF TRANSPORTATION

Federal Aviation Administration

Notice of Intent To Rule on Application To Use the Revenue From a Passenger Facility Charge (PFC) at Fayetteville Regional Airport, Fayetteville, NC

AGENCY: Federal Aviation Administration (FAA), DOT.

ACTION: Notice of intent to rule on application.

SUMMARY: The FAA proposes to rule and invites public comment on the application to use the revenue from a PFC at Fayetteville Regional Airport under the provisions of the Aviation Safety and Capacity Expansion Act of 1990 (Title IX of the Omnibus Budget Reconciliation Act of 1990) (Public Law 101-508) and Part 158 of the Federal Aviation Regulations (14 CFR Part 158).

DATES: Comments must be received on or before April 15, 2002.

ADDRESSES: Comments on this application may be mailed or delivered in triplicate to the FAA at the following address: Atlanta Airports District Office, 1701 Columbia Avenue, Suite 2-260, College Park, Georgia 30337.

In addition, one copy of any comments submitted to the FAA must be mailed or delivered to Mr. Bradley S. Whited, A.A.E., Airport Director, of the city of Fayetteville at the following address; Mr. Bradley Whited, A.A.E., Airport Manager, Fayetteville Regional Airport, P.O. Box 64218, Fayetteville, NC 28306.

Air carriers and foreign air carriers may submit copies of written comments previously provided to the city of Fayetteville under section 158.23 of Part 158.

FOR FURTHER INFORMATION CONTACT: Southern Region, Atlanta Airports District Office, Mrs. Tracie D. Kleine, Program Manager, 1701 Columbia Avenue, Suite 2-260, College Park, Georgia 30337-2747, (404) 305-7148.

The application may be reviewed in person at this same location.

SUPPLEMENTARY INFORMATION: The FAA proposes to rule and invites public comment on the application to use the revenue from a PFC at Fayetteville Regional Airport under the provisions of the Aviation Safety and Capacity Expansion Act of 1990 (Title IX of the Omnibus Budget Reconciliation Act of 1990) (Public Law 101-508) and Part 158 of the Federal Aviation Regulations (14 CFR Part 158).

On March 4, 2002, the FAA determined that the application to use the revenue from a PFC submitted by the city of Fayetteville was substantially complete within the requirements of section 158.25 of part 158. The FAA will approve or disapprove the application, in whole or in part, no later than June 13, 2002.

The following is a brief overview of the application.

PFC Application No.: 02-02-U-00-FAY.

Level of the proposed PFC: $3.00.

Proposed charge effective date: November 1, 2000.

Proposed charge expiration date: November 1, 2005.

Total estimated net PFC revenue: $1,026,513.

Brief description of proposed project(s): Construct North General Aviation Ramp, Security System Upgrade, Phase II, Design and Construct Runway 04 Safety Area, Phase I, Acquire Land, Renovate Terminal Building, Phase II, Construct Runway 04 Safety Area, Phase II, Renovate Terminal Building, Phase III, Construct Runway 22 Safety Area, Construct non-license Vehicle Road, Construct Jet Bridge Modification, Construct Taxiway ‘K’.

Class or classes of air carriers which the public agency has requested not be required to collect PFCs: None.

Any person may inspect the application in person at the FAA office listed above under FOR FURTHER INFORMATION CONTACT.

In addition, any person may, upon request, inspect the application, notice and other documents germane to the application in person at the Fayetteville Regional Airport.

Issued in College Park, Georgia on March 6, 2002.
Scott L. Seritt,
Manager, Atlanta Airports District Office, Southern Region.

[FR Doc. 02-6128 Filed 3-13-02; 8:45 am]

BILLING CODE 4910-13-M